INTERNATIONAL TRADE COMMISSION

[Investigation Nos. 701-TA-721 and 731-TA-1689 (Final)]

Alkyl Phosphate Esters From China; Cancellation of Hearing for Antidumping and Countervailing Duty Investigations

AGENCY: United States International Trade Commission.

ACTION: Notice.

DATES: April 8, 2025.

FOR FURTHER INFORMATION CONTACT: Celia Feldpausch (202) 205-2387 and Laurel Schwartz (202) 205-2398, Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On December 4, 2024, the Commission established a schedule for the final phase of antidumping and countervailing duty investigations (89 FR 103877, December 19, 2024). On April 4, 2025, counsel for ICL-IP America, Inc. (“ICL”) filed a request to appear at the hearing. No other parties submitted a request to appear at the hearing. On April 7, 2025, counsel for ICL withdrew its request to appear at the hearing. Counsel also indicated that they would respond to any written questions from the Commission, as appropriate, in posthearing briefs. Consequently, the public hearing in connection with these investigations, scheduled to begin at 9:30 a.m. on Thursday, April 10, 2025, is cancelled. Parties to these investigations should respond to any written questions posed by the Commission in their posthearing briefs, which are due to be filed on April 17, 2025.

For further information concerning these investigations see the Commission's notice cited above and the Commission's Rules of Practice and Procedure, part 201, subparts A and B (19 CFR part 201), and part 207, subparts A, D, E, and F (19 CFR part 207).

Authority: These investigations are being conducted under authority of title VII of the Tariff Act of 1930; this notice is published pursuant to § 207.21 of the Commission's rules.

By order of the Commission.
Issued: April 8, 2025.
Lisa Barton,
Secretary to the Commission.

[FR Doc. 2025-06267 Filed 4-11-25; 8:45 am]

BILLING CODE 7020-02-P